DEPARTMENT OF COMMERCE

National Oceanic and Atmospheric Administration

RIN 0648-XU003

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held October 15 and 16, 2019, from 8:30 a.m. to 5 p.m., and October 17, from 8:30 a.m. to 1 p.m.

ADDRESSES: The meeting will be held at the Sheraton Silver Spring Hotel, 8777 Georgia Ave., Silver Spring, MD 20910; 301-589-0800.

FOR FURTHER INFORMATION CONTACT: Heidi Lovett, MAFAC Assistant Director; 301-427-8034; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change. The meeting is convened to hear presentations and updates and to discuss policies and guidance on the following topics: Seafood promotion and marketing in the U.S.; role of the new senior advisor for seafood strategy; recreational fisheries engagement and electronic reporting; wind development in the marine environment; and electronic monitoring policies and implementation. MAFAC will receive updates on the phase 2 work of Columbia Basin Partnership Task Force, NMFS scientific enterprise, and the budget outlook for FY2020. MAFAC will discuss various administrative and organizational matters, and meetings of subcommittees and working groups will be convened.

Special Accommodations

The meeting is physically accessible to people with disabilities. Requests for sign language interpretation or other auxiliary aids should be directed to Heidi Lovett; 301-427-8034 by October 7, 2019.

Dated: September 19, 2019.
Jennifer Lukens,
Director for the Office of Policy, National Marine Fisheries Service.

[FR Doc. 2019-20740 Filed 9-24-19; 8:45 am]

BILLING CODE 3510-22-P